DEPARTMENT OF AGRICULTURE

Food and Nutrition Service

7 CFR Parts 245 and 272

RIN 0584-AE10

National School Lunch Program: Direct Certification Continuous Improvement Plans Required by the Healthy, Hunger-Free Kids Act of 2010; Approval of Information Collection Request

AGENCY: Food and Nutrition Service, USDA.

ACTION: Final rule; approval of information collection request

SUMMARY: The Food and Nutrition Service published a final rule entitled “National School Lunch Program: Direct Certification Continuous Improvement Plans Required by the Healthy, Hunger-Free Kids Act of 2010” on February 22, 2013. The Office of Management and Budget (OMB) cleared the associated information collection requirements (ICR) on April 10, 2013. This document announces approval of the ICR.

DATES: The ICR associated with the final rule published in the Federal Register on February 22, 2013 at 78 FR 12221 was approved by OMB on April 10, 2013, under OMB Control Number 0584-0577.

FOR FURTHER INFORMATION CONTACT: Requests for additional information or copies of this information collection should be directed to Jon Garcia, Program Analysis and Monitoring Branch, Child Nutrition Division, 3101 Park Center Drive, Alexandria, VA 22302.

SUPPLEMENTARY INFORMATION: The February 22, 2013 final rule amended the National School Lunch Program (NSLP) regulations to incorporate provisions of the Healthy, Hunger-Free Kids Act of 2010 designed to encourage States to improve direct certification efforts with the Supplemental Nutrition Assistance Program (SNAP). The provisions require State agencies to meet certain direct certification performance benchmarks and to develop and implement continuous improvement plans if they fail to do so. The final rule also amended NSLP and SNAP regulations to provide for the collection of data elements needed to compute each State's direct certification performance rate to compare with the new benchmarks. Improved direct certification efforts will help increase program accuracy, reduce paperwork for States and households, and increase eligible children's access to school meals. The proposed rule took comments on the associated ICR until April 2, 2012. This document announces OMB's approval of the ICR under OMB Control Number 0584-0577.

Dated: June 26, 2013.
Audrey Rowe,
Administrator, Food and Nutrition Service.

[FR Doc. 2013-16189 Filed 7-5-13; 8:45 am]

BILLING CODE 3410-30-P